INTER-AMERICAN FOUNDATION

Submission for OMB Review; Comments Request

AGENCY: Inter-American Foundation.

ACTION: Notice of information collection; request for comment.

SUMMARY: Under the provisions of the Paperwork Reduction Act, agencies are required to publish a Notice in the Federal Register notifying the public that the agency is modifying an existing information collection and creating a new information collection for OMB review and approval and requests public review and comment on the submission. The agency received one comment in response to the sixty (60) day notice and have not made changes to the information collection in response to that comments. Comments are being solicited on the need for the information; the accuracy of the burden estimate; the quality, practical utility, and clarity of the information to be collected; and ways to minimize reporting the burden, including automated collected techniques and uses of other forms of technology.

DATES: Comments must be received by September 23, 2024.

ADDRESSES: Comments and requests for copies of the subject information collection may be sent by any of the following methods:

• Mail: Nicole Stinson, Associate General Counsel, Inter-American Foundation, 1331 Pennsylvania Ave. NW, Suite 1200 North, Washington, DC 20004.

• Email: nstinson@iaf.gov.

Instructions: All submissions received must include the agency name and agency form name or OMB control number for this information collection. Electronic submissions must include the agency form name in the subject line to ensure proper routing. Please note that all written comments received in response to this notice will be considered public records.

FOR FURTHER INFORMATION CONTACT: Associate General Counsel: Nicole Stinson, (202) 683-7117.

SUPPLEMENTARY INFORMATION: The agency received a comment in response to the sixty (60) day notice published in Federal Register volume 89, page 51546 on June 18, 2024. Upon publication of this notice, IAF will submit to OMB a request for approval of the following information collection.

Summary Form Under Review

Title of Collection: Awardee Certifications and Disclosures, IAF-06.

Type of Review: Revision of a currently approved information collection.

OMB Control Number: 0417-0501.

Type of Respondent/Affected Public: Private Sector, Businesses or other for profits, Not-for profit institutions.

Frequency: Once.

Estimated Number of Respondents per Year: 450.

Estimated Time per Respondent: 0.2 hours.

Estimated Total Annual Burden Hours: 90.

Abstract: The IAF works to promote sustainable development in Latin America and the Caribbean by directly supporting civil society organizations through funding actions, such as grants and cooperative agreements. The IAF is soliciting comments concerning the information collection of grantee certifications, assurances, and representations for the purpose of obtaining an IAF Award. The purpose of this form is to ensure that grantees are complying with the necessary federal laws and regulations to receive federal funds and give grantees an opportunity to disclose any personal or organizational conflicts of interest, or potential for conflicts of interest.

Summary Form Under Review

Title of Collection: Key Individuals Narcotics Offenses and Drug trafficking certification, IAF-07.

Type of Review: New information collection.

OMB Control Number: Not assigned, new information collection.

Type of Respondent/Affected Public: Private Sector, Businesses or other for profits, Not-for profit institutions.

Frequency: Once.

Estimated Number of Respondents per Year: 450.

Estimated Time per Respondent: 0.2 hours.

Estimated Total Annual Burden Hours: 90.

Abstract: The IAF works to promote sustainable development in Latin America and the Caribbean by directly supporting civil society organizations through funding actions, such as grants and cooperative agreements. The IAF is soliciting comments concerning the collection of information to meet the drug-trafficking prohibition requirements in Section 487 of the Foreign Assistance Act and 22 CFR 140. The purpose of this form is to ensure that key individuals and covered participants affiliated with IAF grants are not participating in narcotics offenses or drug trafficking.

Dated: August 20, 2024.
Natalia Mandrus,
Associate General Counsel, Office of the General Counsel.

[FR Doc. 2024-18992 Filed 8-22-24; 8:45 am]

BILLING CODE 7025-01-P